DEPARTMENT OF TRANSPORTATION

Federal Aviation Administration

14 CFR Part 39

[Docket No. 2001-NM-71-AD; Amendment 39-12612; AD 2002-01-18]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes, that requires replacement of the trigger spring of the slide bar on each of the passenger doors with a new, stronger trigger spring. This action is necessary to prevent corrosion of the trigger spring on the slide bar of the passenger doors, which could result in incorrect locking of the slide bar and, during deployment of the escape slide, lead to a delay in evacuating passengers in an emergency. This action is intended to address the identified unsafe condition.

DATES: Effective March 6, 2002.

The incorporation by reference of certain publications listed in the regulations is approved by the Director of the Federal Register as of March 6, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, FAA, Transport Airplane Directorate, 1601 Lind Avenue, SW., Renton, Washington, telephone (425) 227-2125, fax (425) 227-1149.

SUPPLEMENTARY INFORMATION: A proposal to amend part 39 of the Federal Aviation Regulations (14 CFR part 39) to include an airworthiness directive (AD) that is applicable to certain Airbus Model A319, A320, and A321 series airplanes was published in the Federal Register on August 31, 2001 (66 FR 45950). That action proposed to require replacement of the trigger spring of the slide bar on each of the passenger doors with a new, stronger trigger spring.

Comments

Interested persons have been afforded an opportunity to participate in the making of this amendment. Due consideration has been given to the single comment received.

Request To Revise Proposed Compliance Time

The commenter requests that the FAA revise the compliance time of paragraph (a) of the proposed AD to refer to “30 months after the ‘entry in service’ of the airplane” instead of “30 months from the date of manufacture of the airplane.” The commenter points out that the date of manufacture is the date of the first flight of the airplane, whereas the date of “entry into service” is the date of delivery of the airplane. The difference between these dates could be one month or more. The commenter notes that its recommended change would make the FAA's proposed AD consistent with the corresponding French AD.

We do not concur. For clarification, we define the “date of manufacture” as the date of issuance of the Certificate of Airworthiness. We find that this constitutes a definitive date when all of the manufacturing processes are completed. We have determined that this date should be readily discernible by operators, and no change to the final rule is necessary in this regard.

Explanation of Change to Applicability Statement

The FAA has determined that the wording of the applicability statement in the proposed AD may be confusing for some operators. Therefore, we have revised the wording of the applicability statement of this final rule for clarity.

Conclusion

After careful review of the available data, including the comment noted above, the FAA has determined that air safety and the public interest require the adoption of the rule with the change described previously. The FAA has determined that this change will neither increase the economic burden on any operator nor increase the scope of the AD.

Cost Impact

The FAA estimates that 152 Model A319, A320, and A321 series airplanes of U.S. registry will be affected by this AD, that it will take approximately 8 work hours per airplane to accomplish the required replacement, and that the average labor rate is $60 per work hour. Required parts will be provided at no charge by the manufacturer. Based on these figures, the cost impact of this AD on U.S. operators is estimated to be $72,960, or $480 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-01-18 Airbus Industrie: Amendment 39-12612. Docket 2001-NM-71-AD.

Applicability: Model A319, A320, and A321 series airplanes; all serial numbers having received Airbus Modification 20234 (Airbus Service Bulletin A320-25-1055) (installation of telescopic girt bar for slide raft), but NOT having received Airbus Modification 28212 (Airbus Service Bulletin A320-52-1102, Revision 01, dated November 25, 1999); certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent corrosion of the trigger spring on the slide bar of the forward and aft passenger doors, which could result in incorrect locking of the slide bar during deployment of the escape slide and lead to a delay in evacuating passengers in an emergency, accomplish the following:

Replacement

(a) Within 18 months of the effective date of this AD or within 30 months after the date of manufacture of the airplane, whichever occurs later: Replace the carbon-steel trigger spring having part number (P/N) D5211046420000 on each of the forward and aft passenger doors with a stainless steel trigger spring having P/N D5211046420200, in accordance with Airbus Service Bulletin A320-52-1102, Revision 01, dated November 25, 1999.

Spares

(b) As of the effective date of this AD, no person shall install a carbon-steel trigger spring having P/N D5211046420000, on any airplane.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the Manager, International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A320-52-1102, Revision 01, dated November 25, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2001-063(B), dated February 21, 2001.

Effective Date

(f) This amendment becomes effective on March 6, 2002.

Issued in Renton, Washington, on January 17, 2002.
Michael Kaszycki,
Acting Manager, Transport Airplane Directorate, Aircraft Certification Service.

[FR Doc. 02-1817 Filed 1-29-02; 8:45 am]

BILLING CODE 4910-13-U